DEPARTMENT OF AGRICULTURE

Foreign Agricultural Service

Trade Adjustment Assistance for Farmers

AGENCY: Foreign Agricultural Service, USDA.

ACTION: Notice.

The Administrator, Foreign Agricultural Service (FAS), today accepted a petition filed by the Washington State Potato Commission representing Washington fresh potato producers for trade adjustment assistance. The Administrator will determine within 40 days whether or not increasing imports of French fries contributed importantly to a decline in domestic producer prices of 20 percent or more during the marketing period beginning January 1, 2004, and ending December 31, 2005. If the determination is positive, all producers who produce and market their fresh potatoes in Washington will be eligible to apply to the Farm Service Agency for no cost technical assistance and for adjustment assistance payments.

FOR FURTHER INFORMATION CONTACT: Jean-Louis Pajot, Coordinator, Trade Adjustment Assistance for Farmers, FAS, USDA, (202) 720-2916, e-mail: trade.adjustment@fas.usda.gov.

Dated: February 21, 2006.
A. Ellen Terpstra,
Administrator, Foreign Agricultural Service.

[FR Doc. E6-3096 Filed 3-3-06; 8:45 am]

BILLING CODE 3410-10-P